DEPARTMENT OF TRANSPORTATION

Surface Transportation Board

[STB Ex Parte No. 658]

The 25th Anniversary of the Staggers Rail Act of 1980: A Review and Look Ahead

AGENCY: Surface Transportation Board, DOT.

ACTION: Notice of public hearing.

SUMMARY: The Surface Transportation Board will hold a public hearing beginning at 10 a.m. on Wednesday, October 19, 2005, at its offices in Washington, DC. The purpose of the public hearing will be to examine the impact, the effectiveness, and the future of the Staggers Rail Act of 1980 (Staggers Act). Persons wishing to speak at the hearing should notify the Board in writing.

DATES: The public hearing will take place on Wednesday, October 19, 2005. Any person wishing to speak at the hearing should file with the Board a written notice of intent to participate, and should identify the party, the proposed speaker, the time requested, and the topic(s) to be covered, as soon as possible but no later than October 7, 2005. Each speaker should also file with the Board his/her written testimony by October 12, 2005. Written submissions by interested persons who do not wish to appear at the hearing will also be due by October 12, 2005. A list of speakers and time will be published by October 14, 2005.

ADDRESSES: All notices of intent to participate and testimony may be submitted either via the Board's e-filing format or in the traditional paper format. Any person using e-filing should comply with the Board's “www.stb.dot.gov” Web site, at the “E-FILING” link. Any person submitting a filing in the traditional paper format should send an original and 10 copies of the filing to: Surface Transportation Board, Attn: STB Ex Parte No. 658, 1925 K Street, NW., Washington, DC 20423-0001.

FOR FURTHER INFORMATION CONTACT: Joseph H. Dettmar, (202) 565-1609. [Assistance for the hearing impaired is available through the Federal Information Relay Service (FIRS) at: (800) 877-8339.]

SUPPLEMENTARY INFORMATION: The Board will hold a public hearing to provide a forum for the expression of views on the impact, effectiveness, and future of the Staggers Act. Interested persons, including large and small rail customers, large and small railroad companies, representatives of local communities, and State and Federal government officials, are invited to participate. The hearing is not intended to offer a forum for discussion of pending cases, but rather is intended as an opportunity for interested persons to address broader issues regarding the Staggers Act generally.

Date of Hearing. The hearing will begin at 10 am on Wednesday, October 19, 2005, in the 7th floor hearing room at the Board's headquarters in Washington, DC, and will continue, with short breaks if necessary, until every person scheduled to speak has been heard.

Notice of Intent To Participate. Any person wishing to speak at the hearing should file with the Board a written notice of intent to participate, and should identify the party, the proposed speaker, the time requested, and topic(s) to be covered, as soon as possible, but no later than October 7, 2005.

Testimony. Each speaker should file with the Board his/her written testimony by October 12, 2005. Also, any interested person who wishes to submit a written statement without appearing at the October 19 hearing should file that statement by October 12, 2005.

Board Releases and Live Audio Available Via the Internet. Decisions and notices of the Board, including this notice, are available on the Board's Web site at “http://www.stb.dot.gov.” This hearing will be available on the Board's Web site by live audio streaming. To access the hearing, click on the “Live Audio” link under “Information Center” at the left side of the Home page beginning at 10 a.m. on October 19, 2005.

This action will not significantly affect either the quality of the human environment or the conservation of energy resources.

Dated: September 14, 2005.
Vernon A. Williams,
Secretary.

[FR Doc. 05-18681 Filed 9-19-05; 8:45 am]

BILLING CODE 4915-01-P